DEPARTMENT OF HEALTH AND HUMAN SERVICES

Administration for Children and Families

Proposed Information Collection Activity; Comment Request

Title: Head Start Family and Child Experiences Survey (FACES).

OMB No.: 0970-0151.

Description: The Office of Planning, Research and Evaluation (OPRE), Administration for Children and Families (ACF), U.S. Department of Health and Human Services (HHS), is proposing to collect data for the Head Start Family and Child Experiences Survey (FACES). Featuring a new “Core Plus” study design, FACES will provide data on a set of key indicators, including information for performance measures. This design also allows for more rapid and frequent data reporting (Core study) and serves as a vehicle for studying more complex issues and topics in greater detail and with increased efficiency (Plus studies).

The FACES Core study will assess the school readiness skills of Head Start children, survey their parents, and ask their Head Start teachers to rate children's social and emotional skills. In addition, FACES will include observations in Head Start classrooms, and program director, center director, and teacher surveys. FACES Plus studies include additional survey content of policy or programmatic interest, and may include additional programs or respondents beyond those participating in the Core FACES study.

Previous notices provided the opportunity for public comment on the proposed Head Start program recruitment and center selection process (FR V.78, pg. 75569 12/12/2013; FR V.79, pg. 8461 02/12/2014). This notice describes the planned data collection activities for the FACES Core study and Plus studies. Direct child assessments, parent surveys, and teacher child reports for the Core study are included in this clearance package. Additionally, we describe instruments to support the Core study at the program and classroom levels and the Plus studies anticipated for future submission. Since these instruments will be informed by initial findings of FACES and emerging policy needs, they cannot be fully specified at this time. However, we describe the respondents and data collection methods, estimated respondent burden, and how the information will be used to the extent possible at this time. Subsequently, when fully developed in a manner consistent with the description provided in this 60-day notice and prior to use, we will submit these materials for a 30-day public comment period under the Paperwork Reduction Act.

Methods for Core data collection start with site visits in fall 2014 to 60 Head Start programs to directly assess the school readiness skills of 2,400 children sampled to participate in FACES. Parents of sampled children will complete surveys on the Web or by telephone about their children and family background. Head Start teachers will rate each sampled child (approximately 10 children per classroom) using the Web or paper-and-pencil forms. These activities will occur a second time in spring 2015. Additionally, the program sample size will increase to 180 programs in the spring to collect program- and classroom-level data. The methods of data collection for this phase will feature site visitors conducting observations of the types and quality of classroom activities. Head Start program directors, center directors, and teachers will complete surveys about themselves and the services and instruction at Head Start. The program- and classroom-level data collection will occur a second time in spring 2017.

Plus study data collection will parallel the Core design in many ways, including recruitment and data collection procedures, to add new respondents, include new populations, or expand on the information gathered in the Core study. Additional early care and education administrators or providers (such as Education Coordinators or Family Service Staff) may be sampled. Plus studies may involve data collection in additional programs, such as programs serving different populations or programs implementing specific interventions. Data collection for these Plus studies may include child assessments, parent surveys, teacher child reports, and staff surveys. Plus studies may also feature topical modules to gather information in greater depth on particular topics (for example, parent engagement or program functioning). The methods of data collection will involve new methodologies such as qualitative interviews and supplemental surveys with expanded content.

The purpose of the Core data collection is to support the 2007 reauthorization of the Head Start program (P.L. 110-134), which calls for periodic assessments of Head Start's quality and effectiveness. Plus data collection will further support understanding Head Start functioning for a broader set of programs or in more depth for particular topics.

Annual Burden Estimates

Respondents: Head Start children, parents of Head Start children, and Head Start teachers, directors, and other early care and education program staff.

Instrument | Total number of respondents | Annual number of respondents | Number of responses per respondent | Average burden hour per response | Estimated annual burden hours
Core Study
Head Start core child assessment | 2,400 | 800 | 2 | 0.75 | 1,200
Head Start core parent survey | 2,400 | 800 | 2 | 0.25 | 400
Head Start fall parent supplemental survey | 2,400 | 800 | 1 | 0.08 | 64
Head Start spring parent supplemental survey | 2,400 | 800 | 1 | 0.08 | 64
Head Start core teacher child report | 240 | 80 | 20 | 0.17 | 272
Head Start core teacher survey | 720 | 240 | 2 | 0.50 | 240
Head Start core program director survey | 180 | 60 | 2 | 0.25 | 30
Head Start core center director survey | 360 | 120 | 2 | 0.25 | 60
Plus Studies
Head Start parent qualitative interview | 400 | 133 | 2 | 1.00 | 267
Head Start staff qualitative interview | 300 | 100 | 2 | 1.00 | 200
Head Start child assessment for plus study | 1,350 | 450 | 2 | 0.75 | 675
Head Start parent survey for plus study | 1,350 | 450 | 2 | 0.25 | 225
Head Start parent supplemental survey for plus study | 1,350 | 450 | 2 | 0.08 | 72
Head Start teacher child report for plus study | 150 | 50 | 20 | 0.17 | 170
Head Start teacher survey for plus study | 150 | 50 | 2 | 0.50 | 50
Head Start program director survey for plus study | 50 | 17 | 2 | 0.25 | 8
Head Start center director survey for plus study | 100 | 33 | 2 | 0.25 | 17
Early care and education administrators plus survey | 600 | 200 | 2 | 0.50 | 200
Early care and education providers plus survey | 900 | 300 | 2 | 0.50 | 300
Total |  |  |  |  | 4,514

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
OPRE Reports Clearance Officer.

[FR Doc. 2014-04400 Filed 2-27-14; 8:45 am]

BILLING CODE 4184-22-P